DEPARTMENT OF ENERGY

Federal Energy Regulatory Commission

[Docket Nos. EY04-95-14-000, RM01-10-000, PL05-12-000]

Standards of Conduct for Transmission Providers; Extension of Non-Statutory Deadlines; Notice Granting Extension of Time To Comply With Posting and Other Requirements

August 31, 2005.

Hurricane Katrina has created emergency conditions in the Gulf Coast area of the United States. Section 358.4(a)(2) of the Commission's Standards of Conduct regulations allows transmission providers to “take whatever steps are necessary to keep the system[s] in operation” notwithstanding any of the other requirements. 18 CFR 358.4(a)(2) (2005). Section 358.4(a)(2) also provides: “Transmission Providers must report to the Commission and post on the OASIS or Internet Web site, as applicable, each emergency that resulted in any deviation from the standards of conduct, within 24 hours of such deviation.” As a result of the emergency, the Commission will allow affected transmission providers to delay compliance with the section 358.4(a)(2) reporting requirement until September 30, 2005. In addition, pursuant to section 385.2008 of the Commission's Rules of Practice and Procedure, 18 CFR 385.2008 (2005), the Commission finds good cause to extend, until September 30, 2005, non-statutory deadlines that occur before that date for participants in proceedings pending before the Commission who need such extensions on account of Hurricane Katrina.

Linda Mitry,
Deputy Secretary.

[FR Doc. E5-4871 Filed 9-7-05; 8:45 am]

BILLING CODE 6717-01-P